DEPARTMENT OF LABOR

Employment and Training Administration

[TA-W-65,875]

Eastern Display, a Division of Art Guild, Inc., Providence, RI; Notice of Termination of Investigation

In accordance with Section 221 of the Trade Act of 1974, as amended, an investigation was initiated on May 1, 2009 in response to a petition filed by a company official on behalf of workers of Eastern Display, a Division of Art Guild, Inc., Providence, Rhode Island.

The petitioner has requested that the petition be withdrawn. Consequently, the investigation has been terminated.

Signed in Washington, DC, this 9th day of June 2009.
Richard Church,
Certifying Officer, Division of Trade Adjustment Assistance.

[FR Doc. E9-15301 Filed 6-26-09; 8:45 am]

BILLING CODE 4510-FN-P